DEPARTMENT OF ENERGY

Federal Energy Regulatory Commission

18 CFR Part 33

[Docket No. RM98-4-000; Order No. 642]

Revised Filing Requirements Under Part 33 of the Commission's Regulations

Issued February 15, 2001.

AGENCY: Federal Energy Regulatory Commission, DOE.

ACTION: Final rule; notice of confirmation of effective date.

SUMMARY: This document informs the industry and the public that Order No. 642, a Final Rule revising the filing requirements in Part 33 of the Commission's regulations for applications, including public utility mergers, under Section 203 of the Federal Power Act (65 FR 70984 (Nov. 28, 2000)) has been reviewed, and the order's January 29, 2001 effective date will not be postponed.

DATES: The effective date of the Final Rule revising 18 CFR part 33 published at 65 FR 70984 remains January 29, 2001.

FOR FURTHER INFORMATION CONTACT: Diana Moss, Office of Markets, Tariffs and Rates, Federal Energy Regulatory Commission, 888 First Street, NE., Washington, DC 20426, (202) 208-0087.

SUPPLEMENTARY INFORMATION: This notice informs the industry and the public that the Federal Energy Regulatory Commission (Commission) has reviewed Order No. 642 and determined not to delay the order's January 29, 2001 effective date.

Order No. 642, a Final Rule amending the filing requirements in Part 33 of the Commission's regulations for applications, including public utility mergers, under Section 203 of the Federal Power Act, was published in the Federal Register (65 FR 70984 (Nov. 28, 2000)) with a January 29, 2001 effective date.

The January 20, 2001 memorandum directed the heads of executive departments and federal government agencies to postpone the effective date of regulations published in the Federal Register but which had not yet taken effect for 60 days to ensure that his appointees or their designates had an opportunity to review any new or pending regulations (66 FR 7702, January 24, 2001).

The Commission has reviewed Order No. 642, and determined not to delay its effective date. Order No. 642, therefore, will continue to be effective on January 29, 2001.

David P. Boergers,
Secretary.

[FR Doc. 01-4353 Filed 2-23-01; 8:45 am]

BILLING CODE 6717-01-M